OFFICE OF MANAGEMENT AND BUDGET

Office of Federal Procurement Policy

48 CFR Chapter 99

Application of Cost Accounting Standards to Indefinite Delivery Vehicles

AGENCY: Cost Accounting Standards Board, Office of Federal Procurement Policy, Office of Management and Budget.

ACTION: Notice of availability; request for comments.

SUMMARY: The Office of Federal Procurement Policy (OFPP), Cost Accounting Standards Board (CAS Board or the Board), is announcing the availability a document, from case 2021-01, intended to elicit public views on whether and how to amend the Board's rules to address the application of Cost Accounting Standards (CAS) to indefinite delivery vehicles (IDVs).

DATES: Comments must be in writing and must be received by August 19, 2024.

ADDRESSES: Respondents are strongly encouraged to submit comments electronically to ensure timely receipt. Electronic comments may be submitted to OMBCASB@omb.eop.gov. Be sure to include your name, title, organization, and reference case 2021-01. If you must submit by regular mail, please do so at Office of Federal Procurement Policy, 725 17th Street NW, Washington, DC 20503, ATTN: John L. McClung.

Privacy Act Statement: The CAS Board issues this request to elicit public views pursuant to 41 U.S.C. 1502. Submission of comments is voluntary. The information will be used to inform sound decision-making. Please note that all comments received in response to this document may be posted or released in their entirety, including any personal and business confidential information provided. Do not include any information you would not like to be made publicly available. Additionally, the OMB System of Records Notice, OMB Public Input System of Records, OMB/INPUT/01, 88 FR 20913 (available at www.federalregister.gov/documents/2023/04/07/2023-07452/privacy-act-of-1974-system-of-records), includes a list of routine uses associated with the collection of this information.

FOR FURTHER INFORMATION CONTACT: John L. McClung, Manager, Cost Accounting Standards Board (telephone: 202-881-9758; email: john.l.mcclung2@omb.eop.gov).

Availability: The full text of the document is available at: https://www.whitehouse.gov/omb/management/office-federal-procurement-policy/#cost.

SUPPLEMENTARY INFORMATION:

Application of Cost Accounting Standards to Indefinite Delivery Vehicles (IDVs). The Board is soliciting public views on whether and how to amend its rules to address the application of CAS to IDVs.

Rules, regulations, and standards issued by the Board are codified at 48 CFR chapter 99. In accordance with 41 U.S.C. 1502, the Board is inviting interested persons to provide input on this document. All comments must be in writing and submitted as instructed in the ADDRESSES section.

Christine J. Harada,
Senior Advisor Office of Federal Procurement Policy, and Chair, Cost Accounting Standards Board, performing by delegation the duties of the Administrator for Federal Procurement Policy.

[FR Doc. 2024-12225 Filed 6-17-24; 8:45 am]

BILLING CODE 3110-01-P